INTERNATIONAL TRADE COMMISSION

[Investigation No. 337-TA-1274]

Certain Optical Enclosures, Components Thereof, and Products Containing the Same; Notice of a Commission Determination Not To Review an Initial Determination Terminating the Investigation; Termination of Investigation

AGENCY: U.S. International Trade Commission.

ACTION: Notice.

SUMMARY: Notice is hereby given that the U.S. International Trade Commission (“Commission”) has determined not to review an initial determination (“ID”) (Order No. 8) of the presiding administrative law judge (“ALJ”), terminating the investigation based on withdrawal of the complaint. This investigation is terminated.

FOR FURTHER INFORMATION CONTACT: Benjamin S. Richards, Esq., Office of the General Counsel, U.S. International Trade Commission, 500 E Street SW, Washington, DC 20436, telephone (202) 708-5453. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 10, 2021, based on a complaint filed by Criterion Technology, Inc. of Thomaston, GA (“Criterion”). 86 FR 43678 (Aug. 10, 2021). The complaint, as supplemented, alleged violations of section 337 of the Tariff Act of 1930, as amended, 19 U.S.C. 1337, in the importation into the United States or the sale of certain optical enclosures, components thereof, and products containing the same by reason of the misappropriation of trade secrets, the threat or effect of which is to destroy or substantially injure a domestic industry. Id. The Commission's notice of investigation named as respondents Velodyne Lidar USA, Inc. of San Jose, CA and Fujian Fran Optics Co., Ltd. of Fujian, China. Id. The Office of Unfair Import Investigations is also a party to the investigation. Id.

On October 27, 2021, Criterion moved, unopposed, to terminate this investigation in its entirety based on withdrawal of the complaint. On November 2, 2021, the ALJ issued the subject ID, Order No. 8, which granted Criterion's motion and terminated the investigation. No petitions for review of the ID were received.

The Commission has determined not to review the subject ID. This investigation is terminated in its entirety.

The Commission vote for this determination took place on December 1, 2021.

The authority for the Commission's determination is contained in section 337 of the Tariff Act of 1930, as amended (19 U.S.C. 1337), and in Part 210 of the Commission's Rules of Practice and Procedure (19 CFR part 210).

By order of the Commission.
Issued: December 2, 2021.
Lisa Barton,
Secretary to the Commission.

[FR Doc. 2021-26541 Filed 12-7-21; 8:45 am]

BILLING CODE 7020-02-P